NUCLEAR REGULATORY COMMISSION

[NRC-2013-0061]

Memorandum of Understanding Between the U.S. Nuclear Regulatory Commission and the Bureau of Land Management

AGENCY: Nuclear Regulatory Commission.

ACTION: Notice of availability.

FOR FURTHER INFORMATION CONTACT: Mr. Alan Bjornsen, Project Manager, Environmental Review Branch, Division of Waste Management and Environmental Protection, Office of Federal and State Materials and Environmental Management Programs, U.S. Nuclear Regulatory Commission, Rockville, Maryland 20852, Telephone: 301-415-1195, fax number: 301-415-5369; email: Alan.Bjornsen@nrc.gov.

SUPPLEMENTARY INFORMATION:

I. Introduction

On February 12, 2013, the United States Nuclear Regulatory Commission (NRC) and the Bureau of Land Management, United States Department of the Interior (BLM) entered into a Memorandum of Understanding (MOU) concerning the development of uranium or thorium resources on BLM administered public lands, including Federal mineral estates. The MOU sets forth the cooperative working relationship between the NRC and the BLM, primarily for the purpose of enhancing each agency's compliance with the National Environmental Policy Act (NEPA) and Section 106 of the National Historic Preservation Act (NHPA). In particular, the MOU improves interagency communications, facilitates sharing of special expertise and information, and coordinates the preparation of studies, reports and environmental analyses. The MOU supersedes the original memorandum of understanding entered into between the NRC and the BLM on November 30, 2009.

II. Summary

The MOU provides a framework for this cooperative relationship and identifies the responsibilities of each agency. The intent of the MOU is to improve interagency communications, facilitate the sharing of special expertise and information, and coordinate the preparation of studies, reports and environmental analyses pertaining to NRC licensing actions that involve BLM administered public lands. The MOU includes provisions that cover compliance with NEPA and Section 106 of the NHPA. The agencies will implement the MOU through periodic coordination meetings between the NRC and BLM management and staff, establishing points of contact at each agency, identifying information gaps that can be filled by each agency, and ensuring that specific environmental and historic preservation issues of interest to each agency are addressed in environmental reviews. To the fullest extent possible, NRC and BLM will participate either as lead agency, co-lead or cooperating agency on the preparation of site-specific environmental review documents.

III. Further Information

Addresses: Please refer to Docket ID NRC-2013-0061 when contacting the NRC about the availability of information regarding this document. You may access information related to this document, which the NRC possesses and are publicly available, using any of the following methods:

• Federal Rulemaking Web site: Go to http://www.regulations.gov and search for Docket ID NRC-2013-0061. Address questions about NRC dockets to Carol Gallagher; telephone: 301-492-3668; email: Carol.Gallagher@nrc.gov.

• NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by email to pdr.resource@nrc.gov. The “Memorandum of Understanding between the Bureau of Land Management, Department of the Interior and the Nuclear Regulatory Commission, an Independent Agency” is available electronically under ADAMS Accession Number ML13072A778.

Dated at Rockville, Maryland this 22nd day of March, 2013.
For the Nuclear Regulatory Commission.
Christepher McKenney,
Acting Deputy Director, Environmental Protection and Performance Assessment Directorate, Division of Waste Management and Environmental Protection, Office of Federal and State Materials and Environmental Management Programs.

[FR Doc. 2013-07549 Filed 3-29-13; 8:45 am]

BILLING CODE 7590-01-P